DEPARTMENT OF TRANSPORTATION

Office of the Secretary

Notice of Applications for Certificates of Public Convenience and Necessity and Foreign Air Carrier Permits Filed Under Subpart Q During the Week Ending March 31, 2000

The following Applications for Certificates of Public Convenience and Necessity and Foreign Air Carrier Permits were filed under Subpart Q of the Department of Transportation's Procedural Regulations (See 14 CFR 302.1701 et. seq.). The due date for Answers, Conforming Applications, or Motions to modify Scope are set forth below for each application. Following the Answer period DOT may process the application by expedited procedures. Such procedures may consist of the adoption of a show-cause order, a tentative order, or in appropriate cases a final order without further proceedings.

Docket Number: OST-2000-7141.

Date Filed: March 27, 2000.

Due Date for Answers, Conforming Applications, or Motion to Modify Scope: April 24, 2000.

Description: Application of Florida West International Airways, Inc. (“FWIA”) pursuant to 49 U.S.C. Section 41102 and Part 201 and Subpart Q, requests issuance of a new certificate of public convenience and necessity, or an amendment to its existing international certificate, authorizing FWIA to engage in scheduled foreign air transportation of property and mail between any point or points in the United States, via intermediate points, in both directions, to a point or points in Colombia, and beyond Colombia to points, in the Western Hemisphere. FWIA also requests authority to integrate this certificate authority with all services FWIA is otherwise authorized to conduct pursuant to its exemption and certificate authority and consistent with applicable agreements between the U.S. and foreign countries.

Docket Number: OST-2000-7143.

Date Filed: March 27, 2000.

Due Date for Answers, Conforming Applications, or Motion to Modify Scope: April 17, 2000.

Description: Application of Continental Micronesia, Inc. pursuant to 49 U.S.C. Section 41102 and Subpart B, applies to renew its Segment 9 Saipan/Guam-Sapporo/Sendai, Japan) and Segment 13 (Honolulu-Tokyo, Japan) Route 171 certificate authority for a period of no less than five Years.

Docket Number: OST-2000-7152.

Date Filed: March 28, 2000.

Due Date for Answers, Conforming Applications, or Motion to Modify Scope: April 18, 2000.

Description: Application of Farwest Airlines, LLC (“Far-west”) pursuant to 49 U.S.C. Section 41738 and Subpart B, requests authority to operate scheduled passenger service as a commuter air carrier.

Docket Number: OST-2000-7168.

Date Filed: March 31, 2000.

Due Date for Answers, Conforming Applications, or Motion to Modify Scope: April 21, 2000.

Description: Application of Tie Aviation, Inc. d/b/a Trans International Express (“Tie”) pursuant to 49 U.S.C Section 41102, Part 201 and Subpart Q, requests that the Department issue it a Certificate of Public Convenience and Necessity to authorize foreign charter air transportation of property and mail.

Andrea M. Jenkins,
Federal Register Liaison.

[FR Doc. 00-11158 Filed 5-3-00; 8:45 am]

BILLING CODE 4910-62-P